DEPARTMENT OF THE INTERIOR

Bureau of Land Management

[MT-926-03-1910-BK-5065]

Montana: Filing of Plat of Survey

AGENCY: Bureau of Land Management, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Robert L. Brockie, Cadastral Surveyor, Branch of Cadastral Survey, Bureau of Land Management, 5001 Southgate Drive, P.O. Box 36800, Billings, Montana 59107-6800, telephone (406) 896-5125 or (406) 896-5009.

SUPPLEMENTARY INFORMATION: This survey was executed at the request of the Bureau of Indian Affairs (BIA), and was necessary to determine areas of accreted land. The lands we surveyed are:

Principal Meridian, Montana

T. 27 N., R. 52 E.

The plat, in three sheets, representing the dependent resurvey of a portion of the subdivisional lines, the adjusted original meanders of the former left bank of the Missouri River, downstream through section 20, and the subdivision of section 20, and the subdivision of section 20, and the survey of the meanders of the present left bank of the Missouri River, downstream through section 20, and certain division of accretion lines in Township 27 North, Range 52 East, Principal Meridian, Montana, was accepted June 6, 2003.

We will place a copy of the plat, in three sheets, we described in the open files. It will be available to the public as a matter of information.

If BLM receives a protest against this survey, as shown on this plat, in three sheets, prior to the date of the official filing, we will stay the filing pending our consideration of the protest.

We will not officially file this plat, in three sheets, until the day after we have accepted or dismissed all protests and they have become final, including decisions or appeals.

Dated: July 31, 2003.
Heidi L. Pfosch,
Acting Chief Cadastral Surveyor, Division of Resources.

[FR Doc. 03-20091 Filed 8-6-03; 8:45 am]

BILLING CODE 4310-$$-P